INTERNATIONAL TRADE COMMISSION

[USITC SE-15-003]

Government in the Sunshine Act Meeting Notice

Corrections to Government in the Sunshine Notice

AGENCY HOLDING THE MEETING: United States International Trade Commission.

DATE: January 12, 2015.

PLACE: Room 101, 500 E Street SW., Washington, DC 20436, Telephone: (202) 205-2000.

STATUS: Open to the public.

In accordance with 19 CFR 201.35(d)(2)(i), the Commission hereby gives notice the correct investigation number for the meeting of January 12, 2015 at 11:00 a.m. is 731-TA-1153 (Review) and the correct title is Certain Tow-Behind Lawn Groomers and Parts Thereof from China.

In accordance with Commission policy, subject matter listed above, not disposed of at the scheduled meeting, may be carried over to the agenda of the following meeting. Earlier notification of this change was not possible.

By order of the Commission:
Issued: January 8, 2015.
William R. Bishop,
Supervisory Hearings and Information Officer.

[FR Doc. 2015-00340 Filed 1-8-15; 4:15 pm]

BILLING CODE 7020-02-P